DEPARTMENT OF HOUSING AND URBAN DEVELOPMENT

[Docket No. FR-4456-N-26]

Privacy Act of 1974; Proposed Amendment of Routine Uses Applicable to Systems of Records

AGENCY: Office of Inspector General, HUD.

ACTION: Notification of proposed amendment of routine uses applicable to systems of records.

SUMMARY: Pursuant to the provisions of the Privacy Act of 1974 (5 U.S.C. 552a), the Office of Inspector General (OIG) is giving notice that it proposes to amend the routine uses applicable to its systems of records, which are published at 57 FR 25069 (June 12, 1992) and 65 FR 50904 (August 21, 2000). The OIG proposes to add a new routine use to the routine uses currently applicable to OIG's systems of records to permit disclosure of five systems of records for purposes of internal and external peer reviews of the Office of Audit and Office of Investigations, specifically HUD/OIG-1, Investigative Files of the Office of Inspector General, HUD/OIG-2, Hotline Complaint Files of the Office of Inspector General; HUD/OIG-3, Name Indices System of the Office of Inspector General, HUD/OIG-5, AutoAudit of the Office of Inspector General; and HUD/OIG-6, AutoInvestigation of the Office of Inspector General. This notice also proposes adding a new routine use to the same five systems of records to allow disclosure of theses records to the President's Council on Integrity and Efficiency (PCIE) and other federal agencies, when these entities or the OIG conducts an audit or investigation pursuant to Executive Order 12993.

DATES: Effective date: This proposal shall become effective without further notice on April 28, 2003, unless comments are received on or before that date which would result in a contrary determination.

Comment Due Date: April 28, 2003.

ADDRESSES: Interested persons are invited to submit comments regarding this rule to the Rules Docket Clerk, Office of General Counsel, Room 10276, Department of Housing and Urban Development, 451 7th Street, SW., Washington, DC 20410-0500. Communications should refer to the above docket number and title. An original and four copies of comments should be submitted. Facsimile comments are not acceptable. A copy of each communication submitted will be available for public inspection and copying between 7:30 a.m. and 5:30 p.m. weekdays at the above address.

FOR FURTHER INFORMATION CONTACT: For Privacy Act information: Jeanette Smith, Departmental Privacy Act Officer, telephone number (202) 708-2374. For OIG-related information: Bryan Saddler, Counsel to the Inspector General, Office of Inspector General, telephone number (202) 708-1613. (These are not toll free numbers). A telecommunications device for hearing- and speech-impaired persons (TTY) is available at 1-800-877-8339 (Federal Information Relay Services).

SUPPLEMENTARY INFORMATION: The OIG, pursuant to the Privacy Act of 1974, currently maintains six systems of records: (l) Investigative Files of the Office of Inspector General (HUD/OIG-1); (2) Hotline Complaint Files of the Office of Inspector General (HUD/OIG-2); (3) Name Indices System of the Office of Inspector General (HUD/OIG-3); (4) Independent Auditor Monitoring Files of the Office of Inspector General (HUD/OIG-4); (5) AutoAudit of the Office of Inspector General (HUD/OIG-5); and (6) AutoInvestigation of the Office of Inspector General (HUD/OIG-6). The notices for these systems of records were last published on June 12, 1992 (57 FR 25069) and August 21, 2000 (65 FR 50904). The additional two routine uses being proposed will permit disclosure to those persons involved in conducting and reviewing external and internal peer reviews of the Office of Audit and the Office of Investigations, the PCIE, and other authorized Federal agencies when conducting investigations or audits pursuant to Executive Order 12993.

Recent legislation enacted as part of the Department of Homeland Security Act, specifically, subsection (7) of that Act reads as follows: “To ensure the proper exercise of the law enforcement powers authorized by this subsection, the OIG described under paragraph (3) shall, not later than 180 days after the date of enactment of this subsection, collectively enter into a memorandum of understanding to establish an external review process for ensuring that adequate internal safeguards and management procedures continue to exist within each Office and within any Office that later receives an authorization under paragraph (2). The review process shall be established in consultation with the Attorney General, who shall be provided with a copy of the memorandum of understanding that established the review process. Under the review process, the exercise of the law enforcement powers by each Office of Inspector General shall be reviewed periodically by another Office of Inspector General or by a committee of Inspectors General. The results of each review shall be communicated in writing to the applicable Inspector General and to the Attorney General”.

OIG proposes a routine use that will allow the disclosure of information to authorized officials within OIG, the PCIE, the Department of Justice (DOJ), and the Federal Bureau of Investigation, as necessary, for the purpose of conducting qualitative assessment reviews of the OIG's investigative operations to ensure that the adequate internal and management procedures are maintained. A similar routine use is proposed for the Office of Audit records, which is subject to a recurring (every three year) external peer review required by the Government Accounting Standards, para. 3.33, and the PCIE. While these disclosures could be justified otherwise, it is appropriate that formal notice be provided.

An additional new routine use is proposed to enable OIG to assist other OIG's with internal audits or investigations required by the PCIE under Executive Order 12993, which cannot or should not be performed by the staff of a particular OIG that would normally conduct the audit or investigation and to allow reports to be reviewed by the PCIE regarding actions taken with respect to these audits or investigations. This routine use will allow the OIG to conduct assigned audits or investigations under Executive Order 12993 and to report its findings and recommendations and actions taken to the PCIE. It will also allow release of information to other agencies conducting internal audits of OIG. Again, while such releases may be otherwise justified, it is appropriate that a formal notice be provided.

The texts of the new routine uses are printed below. All other aspects of OIG's systems of records remain unchanged and are as published at 57 FR 25069 and 65 FR 50904.

Section 552a(e)(4) and (11) of title 5, United States Code, provides that the public be afforded a 30-day period in which to comment on these revisions to OIG's existing record systems. Further, a report of the OIG's intention to amend the routine uses applicable to its six existing systems of records has been submitted to the Committee on Government Operations of the House of Representatives, the Committee on Governmental Affairs of the Senate, and the Office of Management and Budget (OMB), pursuant to paragraph 4b of Appendix I of OMB Circular A-130, which is entitled “Federal Agency Responsibilities for Maintaining Records About Individuals” (50 FR 52730 (Dec. 24, 1985)).

HUD/OIG-1

SYSTEM NAME:

Investigative Files of the Office of Inspector General.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking action to recover money or property, where such recovery serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

* * * * *

HUD/OIG-2

SYSTEM NAME:

Hotline Complaint Files of the Office of Inspector General.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking action to recover money or property, where such recovery serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

* * * * *

HUD/OIG-3

SYSTEM NAME:

Name Indices System of the Office of Inspector General.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking action to recover money or property, where such recovery serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

* * * * *

HUD/OIG-5

SYSTEM NAME:

AutoAudit of the Office of Inspector General.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking action to recover money or property, where such recovery serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure auditing standards applicable to Government audits by the Comptroller General of the United States are applied and followed.

9. In the event that these records respond to an audit, investigation or review, which is conducted pursuant to an authorizing law, rule or regulation, and in particular those conducted at the request of the PCIE pursuant to Executive Order 12993, the records may be disclosed to the PCIE and other federal agencies, as necessary.

* * * * *

HUD/OIG-6

SYSTEM NAME:

AutoInvestigation of the Office of Inspector General.

* * * * *

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule, or regulation.

2. Records may be disclosed to a congressional office in response to an inquiry from that congressional office made at the request of the individual who is the subject of the records.

3. Records may be disclosed to HUD contractors, Public Housing Authorities or management agents of HUD-assisted housing projects, in order to assist such entities in taking action to recover money or property, where such recovery serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

Dated: March 21, 2003.
Kenneth M. Donohue, Sr.,
Inspector General.

[FR Doc. 03-7415 Filed 3-27-03; 8:45 am]

BILLING CODE 4210-78-P